OFFICE OF PERSONNEL MANAGEMENT

Information Collection: Standard Form 2800—Application for Death Benefits Under the Civil Service Retirement System (CSRS); Standard Form 2800A—Documentation and Elections in Support of Application for Death Benefits When Deceased Was an Employee at the Time of Death (CSRS)

AGENCY: Office of Personnel Management.

ACTION: 60-Day notice and request for comments.

SUMMARY: The Retirement Services, Office of Personnel Management (OPM) offers the general public and other federal agencies the opportunity to comment on a revision of a currently approved information collection, Standard Form 2800—Application for Death Benefits (CSRS) and Standard Form 2800A—Documentation and Elections in Support of Application for Death Benefits When Deceased Was an Employee at the Time of Death (CSRS).

DATES: Comments are encouraged and will be accepted until January 22, 2018.

ADDRESSES: Interested persons are invited to submit written comments on the proposed information collection to Retirement Services, Office of Personnel Management, 1900 E Street NW., Washington, DC 20415, Attention: Alberta Butler, Room 2347-E, or sent via electronic mail to Alberta.Butler@opm.gov.

FOR FURTHER INFORMATION CONTACT: A copy of this information collection instrument with applicable supporting documentation, may be obtained by contacting the Retirement Services Publications Team, Office of Personnel Management, 1900 E Street NW., Room 3316-L, Washington, DC 20415, Attention: Cyrus S. Benson, or sent via electronic mail to Cyrus.Benson@opm.gov, via telephone to (202) 606-4808, or faxed to (202) 606-0910.

SUPPLEMENTARY INFORMATION: As required by the Paperwork Reduction Act of 1995 (Pub. L. 104-13, 44 U.S.C. chapter 35) OPM is soliciting comments for this collection (OMB No. 3206-0156). We are particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2800 is needed to collect information so that OPM can pay death benefits to the survivors of Federal employees and annuitants. Standard Form 2800A is needed for deaths in service so that survivors can make the needed elections regarding military service.

Analysis

Agency: Retirement Operations, Retirement Services, Office of Personnel Management.

Title: Application for Death Benefits under the Civil Service Retirement System (SF 2800); and Documentation and Elections in Support of Application for Death Benefits When Deceased Was an Employee at the Time of Death (SF 2800A).

OMB Number: 3206-0156.

Frequency: On occasion.

Affected Public: Individuals or Households.

Number of Respondents: SF 2800 = 40,000; SF 2800A = 400.

Estimated Time per Respondent: SF 2800 = 45 minutes; SF 2800A = 45 minutes.

Total Burden Hours: 30,300 (SF 2800 = 30,000 hours; SF 2800A = 300 hours).

U.S. Office of Personnel Management.
Kathleen M. McGettigan,
Acting Director.

[FR Doc. 2017-25033 Filed 11-20-17; 8:45 am]

BILLING CODE 6325-38-P